DEPARTMENT OF TRANSPORTATION

Office of the Secretary

[Docket No. DOT-OST-2012-0087]

Advisory Committee for Aviation Consumer Protection

AGENCY: Office of the Secretary (OST), Department of Transportation (DOT).

ACTION: Notice of ninth meeting of advisory committee.

SUMMARY: This notice announces the ninth meeting of the Advisory Committee for Aviation Consumer Protection.

DATES: The ninth meeting of the advisory committee is scheduled for September 1, 2015, from 10:00 a.m. to 12:00 p.m., Eastern Time.

ADDRESSES: The meeting will be held in the Media Center (located on the lobby level of the West Building) at the U.S. Department of Transportation (DOT) headquarters, 1200 New Jersey Avenue SE., Washington, DC. Attendance is open to the public up to the room's capacity of 100 attendees. Since space is limited and access to the DOT headquarters building is controlled for security purposes, any member of the general public who plans to attend this meeting must notify the registration contact identified below no later than August 25, 2015.

FOR FURTHER INFORMATION CONTACT: To register to attend the meeting, please contact Amy Przybyla, Research Analyst, CENTRA Technology, Inc., przybylaa@centratechnology.com; 703-894-6962. For other information please contact Amna Arshad, Senior Attorney, Office of Aviation Enforcement and Proceedings, amna.arshad@dot.gov; U.S. Department of Transportation, 1200 New Jersey Ave. SE., Washington, DC, 20590; 202-366-9342 (phone), 202-366-5944 (fax).

SUPPLEMENTARY INFORMATION: On May 24, 2012, the Secretary, as mandated by Section 411 of the FAA Modernization and Reform Act of 2012 (Pub. L. 112-95, 126 Stat. 11 (2012)), established the Advisory Committee for Aviation Consumer Protection. The committee's charter, drafted in accordance with the Federal Advisory Committee Act, as amended, 5 U.S.C. App. 2, sets forth policies for the operation of the advisory committee and is available on the Department's Web site at http://www.facadatabase.gov/committee/charters.aspx?cid=2448&aid=47.

The ninth meeting of the committee is scheduled to take place from 10:00 a.m. to 12:00 p.m. Eastern Time on September 1, 2015, in the Media Center at the DOT headquarters, 1200 New Jersey Avenue SE., Washington, DC 20590. The committee will discuss the recommendations submitted to it during the past three public meetings on the following subjects: Voice calls, government-imposed taxes and fees, airline mergers and consolidations, space allocated per passenger on aircraft, airline frequent flyer programs, airline change/cancellation fees, mandatory hotel resort fees, and baggage allowances, fees and interlining. The committee will also provide its preliminary recommendations to the Department which will form the basis for a report to the Secretary on improvements to existing aviation consumer protection programs. This meeting will be open to the public and comments by members of the public are invited. Attendance will necessarily be limited by the size of the meeting room (maximum 100 attendees). We ask that any member of the general public who plans to attend the ninth meeting notify the registration contact noted above no later than August 25, 2015. Additionally, DOT will stream the event live on the Internet and provide a link to the recorded webcast for future viewing at www.dot.gov/airconsumer/ACACP.

Members of the public may present written comments at any time. The docket number referenced above (DOT-OST-2012-0087, available at https://www.regulations.gov) has been established for committee documents including any written comments that may be filed.

Persons with a disability who plan to attend the meeting and require special accommodations, such as an interpreter for the hearing impaired, should notify the registration contact noted above no later than August 25, 2015.

Notice of this meeting is being provided in accordance with the Federal Advisory Committee Act and the General Services Administration regulations covering management of Federal advisory committees. (41 CFR part 102-3.)

Issued in Washington, DC, on August 11, 2015.
Blane A. Workie,
Assistant General Counsel for Aviation Enforcement & Proceedings, U.S. Department of Transportation.

[FR Doc. 2015-20190 Filed 8-14-15; 8:45 am]

BILLING CODE 4910-9X-P